DEPARTMENT OF LABOR

Employment and Training Administration

[TA-W-70,063]

AIT, American Integration Technologies, Doing Business as Advanced Integration Technologies, Parent of Integrated Flow Systems LLC, Pflugerville, TX; Amended Certification Regarding Eligibility To Apply for Worker Adjustment Assistance

In accordance with Section 223 of the Trade Act of 1974, as amended (“Act”), 19 U.S.C. 2273, the Department of Labor issued a Certification of Eligibility to Apply for Worker Adjustment Assistance on September 23, 2009, applicable to workers of AIT, a subsidiary of American Integrated Technologies, Pflugerville, Texas. The notice was published in the Federal Register November 17, 2009 (74 FR 59253).

At the request of the State agency, the Department reviewed the certification for workers of the subject firm. The workers are engaged in the production of high purity stainless steel weldments for gas and chemical delivery systems.

Information shows that as the result of corporate decisions in April 2009, the correct name of the subject firm should read AIT, American Integration Technologies, doing business as Advanced Integration Technologies, parent of Integrated Flow Systems. Workers separated from employment at the subject firm had their wages reported under two separate unemployment insurance (UI) tax accounts—Integrated Flow Systems, LLC before April 2009, and American Integration Technologies after April 2009.

Accordingly, the Department is amending this certification to properly reflect this matter.

The intent of the Department's certification is to include all workers of the subject firm who were adversely affected by the shift in production of high purity stainless steel weldments for gas and chemical delivery systems to the Philippines.

The amended notice applicable to TA-W-70,832 is hereby issued as follows:

All workers of AIT, American Integration Technologies, doing business as Advanced Integration Technologies, parent of Integrated Flow Systems LLC, Pflugerville, Texas, who became totally or partially separated from employment on or after May 18, 2008 through September 23, 2011, and all workers in the group threatened with total or partial separation from employment on date of certification through two years from the date of certification, are eligible to apply for adjustment assistance under Chapter 2 of Title II of the Trade Act of 1974, as amended.

Signed at Washington, DC this 17th day of November 2009.
Michael W. Jaffe,
Certifying Officer, Division of Trade Adjustment Assistance.

[FR Doc. E9-29146 Filed 12-7-09; 8:45 am]

BILLING CODE 4510-FN-P